ENVIRONMENTAL PROTECTION AGENCY

[FRL-6991-6]

Science Advisory Board; Notification of Public Advisory Committee Meeting

Pursuant to the Federal Advisory Committee Act, Public Law 92-463, notice is hereby given that the Research Strategies Advisory Committee (RSAC) of the U.S. EPA Science Advisory Board (SAB), will meet on Tuesday and Wednesday, June 26 and 27, 2001 at EPA headquarters in room 6013 of the Ariel Rios Building, 1200 Pennsylvania Avenue, NW., Washington, DC 20005. The meeting will begin by 8:30 a.m. and adjourn no later than 5 p.m. Eastern Standard Time on both days. The meeting is open to the public, however, seating is limited and available on a first come basis.

Purpose of the Meeting—The RSAC plans to complete its advisory on EPA's implementation of the peer review program. Two case studies have been selected (i.e., the review of the Agency's Risk Characterization Handbook, and a combined look at the reviews of the methodology for deriving ambient water quality criteria for the protection of human health and the methyl mercury bioaccumulation factors report) to better understand how the peer review guidance was followed, how the charge questions helped focus the review, and how the product was improved by the review. The Committee will also meet with Agency officials to continue to explore how the Agency identifies, evaluates, and uses science conducted outside EPA to inform its decisions and how the Agency is progressing with it's multiyear planning process.

Charge to the Committee—The charge for the Committee’ Advisory on the peer review process at EPA is: (a) Is EPA peer reviewing the right products? (b) Are the peer reviews conducted appropriately? (c) Do the peer reviews make a difference? (d) Does EPA peer review all the science it uses (e.g., data submitted from parties outside the Agency)? (e) Does the RSAC have additional comments/guidance for EPA?

For Further Information—Any member of the public wishing further information concerning this meeting should contact Dr. John “Jack” R. Fowle III, Designated Federal Officer, Science Advisory Board (1400A), U.S. Environmental Protection Agency, 1200 Pennsylvania Avenue, NW., Washington, DC 20460; telephone (202) 564-4547; FAX (202) 501-0323; or via e-mail at fowle.jack@epa.gov. For a copy of the draft meeting agenda, please contact Ms. Dorothy Clark, Management Assistant at (202) 564-4537 or by FAX at (202) 501-0582 or via e-mail at clark.dorothy@epa.gov.

Materials that are the subject of this review are available from Ms. Barbara Klieforth of the Office of Research and Development (ORD) at (202) 564-6787 or by e-mail at klieforth.barbara@epa.gov.

Providing Oral or Written Comments—Members of the public who wish to make a brief oral presentation (10 minutes or less) to the Committee must contact Dr. Fowle in writing (by letter or by fax—see contact information above) no later than 12 noon Eastern Time, Thursday, June 19, 2001 in order to be included on the Agenda. The request should identify the name of the individual who will make the presentation, the organization (if any) they will represent, any requirements for audio visual equipment (e.g., overhead projector, 35mm projector, chalkboard, etc), and at least 35 copies of an outline of the issues to be addressed or the presentation itself. Written comments will be accepted until close of business June 27, 2001. See below for more information on providing written or oral comments.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Dr. Fowle at least five business days prior to the meeting so that appropriate arrangements can be made.

Dated: May 24, 2001.
Donald G. Barnes,
Staff Director, Science Advisory Board.

[FR Doc. 01-14083 Filed 6-4-01; 8:45 am]

BILLING CODE 6560-50-U